DEPARTMENT OF ENERGY

Federal Energy Regulatory Commission

Combined Notice of Filings #1

Take notice that the Commission received the following Complaints and Compliance filings in EL Dockets:

Docket Numbers: EL24-135-000.

Applicants: Freeman Solar LLC v. PJM Interconnection, L.L.C.

Description: Complaint of Freeman Solar LLC v. PJM Interconnection, L.L.C.

Filed Date: 8/23/24.

Accession Number: 20240823-5162.

Comment Date: 5 p.m. ET 9/12/24.

Take notice that the Commission received the following electric rate filings:

Docket Numbers: ER17-2386-005.

Applicants: Great Bay Solar I, LLC.

Description: Compliance filing: Informational Filing Re: Upstream Transfer of Ownership Confidential ER17-2386—to be effective N/A.

Filed Date: 8/23/24.

Accession Number: 20240823-5169.

Comment Date: 5 p.m. ET 9/13/24.

Docket Numbers: ER19-1195-005.

Applicants: GSG 6, LLC.

Description: Compliance filing: Informational Filing Re: Upstream Transfer of Ownership Confidential (ER19-1195) to be effective N/A.

Filed Date: 8/23/24.

Accession Number: 20240823-5175.

Comment Date: 5 p.m. ET 9/13/24.

Docket Numbers: ER19-1506-005.

Applicants: Minonk Wind, LLC.

Description: Compliance filing: Informational Filing Re: Upstream Transfer of Ownership Confidential ER19-1506 to be effective N/A.

Filed Date: 8/26/24.

Accession Number: 20240826-5003.

Comment Date: 5 p.m. ET 9/16/24.

Docket Numbers: ER20-2108-006.

Applicants: Great Bay Solar II, LLC.

Description: Compliance filing: Informational Filing Re: Upstream Transfer of Ownership Confidential (ER20-2108) to be effective N/A.

Filed Date: 8/23/24.

Accession Number: 20240823-5171.

Comment Date: 5 p.m. ET 9/13/24.

Docket Numbers: ER21-1501-004.

Applicants: Sandy Ridge Wind, LLC.

Description: Compliance filing: Informational Filing Re: Upstream Transfer of Ownership Confidential ER21-1501 to be effective N/A.

Filed Date: 8/23/24.

Accession Number: 20240823-5203.

Comment Date: 5 p.m. ET 9/13/24.

Docket Numbers: ER21-1937-003..

Applicants: Altavista Solar, LLC.

Description: Compliance filing: Informational Filing Re: Upstream Transfer of Ownership Confidential (ER21-1937) to be effective N/A.

Filed Date: 8/23/24.

Accession Number: 20240823-5166.

Comment Date: 5 p.m. ET 9/13/24.

Docket Numbers: ER22-69-002.

Applicants: Indeck Niles, LLC.

Description: Supplement to 06/23/2023 notice of non-material change in status of Indeck Niles, LLC.

Filed Date: 5/31/24.

Accession Number: 20240531-5449.

Comment Date: 5 p.m. ET 9/16/24.

Docket Numbers: ER23-2112-004.

Applicants: Sandy Ridge Wind 2, LLC.

Description: Compliance filing: Informational Filing Re: Upstream Transfer of Ownership Confidential ER23-2112 to be effective N/A.

Filed Date: 8/26/24.

Accession Number: 20240826-5001.

Comment Date: 5 p.m. ET 9/16/24.

Docket Numbers: ER24-81-004.

Applicants: Shady Oaks Wind 2, LLC.

Description: Compliance filing: Informational Filing Re: Upstream Transfer of Ownership Confidential ER24-81 to be effective N/A.

Filed Date: 8/23/24.

Accession Number: 20240823-5199.

Comment Date: 5 p.m. ET 9/13/24.

Docket Numbers: ER24-1638-001.

Applicants: Midcontinent Independent System Operator, Inc.

Description: Tariff Amendment: 2024-08-26_Deficiency Response to Resource Accreditation Reform to be effective 9/1/2024.

Filed Date: 8/26/24.

Accession Number: 20240826-5089.

Comment Date: 5 p.m. ET 9/16/24.

Docket Numbers: ER24-2860-000.

Applicants: Southwest Power Pool, Inc.

Description: Request for Waiver of Tariff Provisions of Southwest Power Pool, Inc.

Filed Date: 8/23/24.

Accession Number: 20240823-5164.

Comment Date: 5 p.m. ET 9/13/24.

Docket Numbers: ER24-2861-000.

Applicants: Portland General Electric Company.

Description: § 205(d) Rate Filing: PGE Concurrence Filing Colstrip Glendive I LGIA RS332 to be effective 6/18/2024.

Filed Date: 8/23/24.

Accession Number: 20240823-5193.

Comment Date: 5 p.m. ET 9/13/24.

Docket Numbers: ER24-2862-000.

Applicants: Portland General Electric Company.

Description: § 205(d) Rate Filing: PGE Concurrence Filing Colstrip Glendive II LGIA RS333 to be effective 6/17/2024.

Filed Date: 8/23/24.

Accession Number: 20240823-5194.

Comment Date: 5 p.m. ET 9/13/24.

Docket Numbers: ER24-2863-000.

Applicants: Southwest Power Pool, Inc.

Description: Request for Waiver of Tariff Provisions of Southwest Power Pool, Inc.

Filed Date: 8/23/24.

Accession Number: 20240823-5206.

Comment Date: 5 p.m. ET 9/13/24.

Docket Numbers: ER24-2864-000.

Applicants: PJM Interconnection, L.L.C.

Description: Compliance filing: Compliance Filing in EL22-85 to be effective 7/26/2024.

Filed Date: 8/26/24.

Accession Number: 20240826-5049.

Comment Date: 5 p.m. ET 9/16/24.

Docket Numbers: ER24-2865-000.

Applicants: Midcontinent Independent System Operator, Inc.

Description: § 205(d) Rate Filing: 2024-08-26_SA 4341 SMMPA-Lake Charlotte Solar GIA (J1566) to be effective 8/15/2024.

Filed Date: 8/26/24.

Accession Number: 20240826-5052.

Comment Date: 5 p.m. ET 9/16/24.

Docket Numbers: ER24-2866-000.

Applicants: Altavista Solar, LLC, Great Bay Solar I, LLC, Great Bay Solar II, LLC,GSG 6, LLC, Minonk Wind, LLC, Sandy Ridge Wind, LLC, Sandy Ridge Wind 2, LLC, Shady Oaks Wind 2, LLC.

Description: Petition for Limited Waiver of Altavista Solar, LLC, et. al.

Filed Date: 8/23/24.

Accession Number: 20240823-5211.

Comment Date: 5 p.m. ET 9/13/24.

Docket Numbers: ER24-2867-000.

Applicants: Arizona Public Service Company.

Description: § 205(d) Rate Filing: Service Agreement No. 410, Amendment No. 1 to be effective 10/26/2024.

Filed Date: 8/26/24.

Accession Number: 20240826-5085.

Comment Date: 5 p.m. ET 9/16/24.

Docket Numbers: ER24-2868-000.

Applicants: Golden Spread Electric Cooperative, Inc.

Description: § 205(d) Rate Filing: WPC Amendments Ex A, Ex D and Rider D to be effective 10/26/2024.

Filed Date: 8/26/24.

Accession Number: 20240826-5097.

Comment Date: 5 p.m. ET 9/16/24.

Docket Numbers: ER24-2869-000.

Applicants: Downeast Wind, LLC.

Description: Baseline eTariff Filing: Application For Market Based Rate Authority to be effective 11/1/2024.

Filed Date: 8/26/24.

Accession Number: 20240826-5117.

Comment Date: 5 p.m. ET 9/16/24.

Take notice that the Commission received the following electric reliability filings:

Docket Numbers: RR24-5-000.

Applicants: North American Electric Reliability Corporation.

Description: Request of North American Electric Reliability Corporation for Acceptance of 2025 Business Plans and Budgets of NERC and Regional Entities and for Approval of Proposed Assessments to Fund Budgets.

Filed Date: 8/23/24.

Accession Number: 20240823-5209.

Comment Date: 5 p.m. ET 9/13/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 26, 2024.
Debbie-Anne A. Reese,
Acting Secretary.

[FR Doc. 2024-19572 Filed 8-29-24; 8:45 am]

BILLING CODE 6717-01-P